DEPARTMENT OF HEALTH AND HUMAN SERVICES

Administration for Children and Families

Notice of Meeting; National Commission on Children and Disasters

AGENCY: Administration for Children and Families, Department of Health and Human Services.

ACTION: Notice of meeting.

DATES: The meeting will be held on Friday, June 26, 2009, from 9:30 a.m. to 3:30 p.m.

ADDRESSES: The meeting will be held at the Administration for Children and Families, 901 D Street, SW., Washington, DC 20024. To attend either in person or via teleconference, please register by 5 p.m. Eastern Time, June 23, 2009. To register, please e-mail jacqueline.haye@acf.hhs.gov with “Meeting Registration” in the subject line, or call (202) 205-9560. Registration must include your name, affiliation, and phone number. If you require a sign language interpreter or other special assistance, please call Jacqueline Haye at (202) 205-9560 as soon as possible and no later than 5 p.m. Eastern Time, June 12, 2009.

Agenda: The Commission will discuss outcomes from its workshop on children and disasters, held June 25, 2009 in partnership with the National Academy of Sciences. Additionally, as pertaining to all hazards, including man-made and natural disasters, the Commission will hear subcommittee presentations on and discuss recommendations regarding: (1) Pediatric medical care; (2) education and juvenile justice; (3) evacuation, transportation and housing; (4) human services recovery; and (5) other matters as may reasonably come before the Commission and plans for future work of the Commission.

Written comments may be submitted electronically to roberta.lavin@acf.hhs.gov with “Public Comment” in the subject line. The Commission recommends that you include your name, mailing address and an e-mail address or other contact information in the body of your comment. This ensures that you can be identified as the submitter of the comment, and it allows the Commission to contact you if further information on the substance of the comment is needed or if your comment cannot be read due to technical difficulties. The Commission's policy is that the Commission will not edit your comment, and any identifying or contact information provided in the body of a comment will be included as part of the comment placed in the official record.

The Commission will provide an opportunity for public comments during the public meeting on June 26. Those wishing to speak will be limited to three minutes each; speakers are encouraged to submit their remarks in writing in advance, to ensure their comment is received in case there is inadequate time for all comments to be heard on June 26.

Additional Information: Contact Roberta Lavin, Office of Human Services Emergency Preparedness and Response, e-mail roberta.lavin@acf.hhs.gov or (202) 401-9306.

SUPPLEMENTARY INFORMATION: The National Commission on Children and Disasters is an independent Commission that shall conduct a comprehensive study to examine and assess the needs of children as they relate to preparation for, response to, and recovery from all hazards, building upon the evaluations of other entities and avoiding unnecessary duplication by reviewing the findings, conclusions, and recommendations of these entities. The Commission shall then submit a report to the President and the Congress on the Commission's independent and specific findings, conclusions, and recommendations to address the needs of children as they relate to preparation for, response to, and recovery from all hazards, including major disasters and emergencies.

Dated: June 3, 2009.
Curtis L. Coy,
Acting Assistant Secretary for Children and Families.

[FR Doc. E9-13417 Filed 6-8-09; 8:45 am]

BILLING CODE 4184-01-P